DEPARTMENT OF THE INTERIOR

Bureau of Land Management

[CO-150-1430-ES; COC-23561-02]

Notice of Realty Action; Recreation and Public Purposes (R&PP) Act Classification; Colorado

AGENCY: Department of the Interior, Bureau of Land Management.

ACTION: Notice.

SUMMARY: The following public lands in Montrose County, Colorado have been examined and found suitable for classification for conveyance to Montrose County, Colorado under the provisions of the Recreation and Public Purposes Act, as amended (43 U.S.C. 869 et seq.). Montrose County proposes to continue to use the lands as a sanitary landfill.

New Mexico Principal Meridian, Colorado

T. 49 N., R. 8 W.,

Sec. 7: lots 6, 8-10, 15 & 16

T. 49 N., R. 9 W.,

Sec. 12: lots 1, 4 & 5

Containing 178.95 acres more or less.

A portion of the lands described, approximately 125 acres, was previously classified as suitable for lease in 1976, and R&PP lease COC-23561-01 was issued to Montrose County for a sanitary landfill. The County proposes to continue using the lands for a sanitary landfill. The proposed conveyance area would allow for future landfill expansion. In the event of the sale, the mineral interest shall be conveyed simultaneously with the surface interest. The mineral interest being offered for conveyance has no known mineral value.

The lands are not needed for Federal purposes. Conveyance without reversionary interest is consistent with current BLM policy and land use planning and would be in the public interest. The patent would be subject to the following terms, conditions and reservations:

1. Provisions of the Recreation and Public Purposes Act and to all applicable regulations of the Secretary of the Interior.

2. A right-of-way thereon for ditches and canals constructed by the authority of the United States.

3. Those rights for road purposes as acknowledged under R.S. 2477 for the Bostwick Park County Road, right-of-way COC-42672.

Upon publication of this notice in the Federal Register, the lands will be segregated from all other forms of appropriation under the public land laws, including the mining laws, except for lease or conveyance under the Recreation and Public Purposes Act. For a period of 45 days from the date of publication of this notice in the Federal Register, interested persons may submit comments to the Uncompahgre Field Office Manager regarding the proposed classification or the conveyance of the subject lands.

Classification Comments

Interested parties may submit comments involving the suitability of the land for sanitary landfill purposes. Comments on the classification are restricted to whether the land is physically suited for the proposal, whether the use will maximize the future use or uses of the land, whether the use is consistent with local planning and zoning, or if the use is consistent with State and Federal programs.

Application Comments

Interested parties may submit comments regarding the proposed conveyance, whether the BLM followed proper administrative procedures in reaching the decision, or any other factor not directly related to the suitability of the land for a sanitary landfill.

Any adverse comments will be reviewed by the State Director. In the absence of any adverse comments, the classification will become effective 60 days from the date of publication of this notice in the Federal Register.

FOR FURTHER INFORMATION CONTACT: Contact the Bureau of Land Management, Uncompahgre Field Office, 2505 South Townsend, Montrose, Colorado 81401, attention: Teresa Pfifer.

Signed May 19, 2000.
Allan J. Belt,
Field Office Manager.

[FR Doc. 00-13485 Filed 5-30-00; 8:45 am]

BILLING CODE 4310-JB-P